DEPARTMENT OF COMMERCE

National Oceanic and Atmospheric Administration

Proposed Information Collection; Comment Request; International Fisheries Trade To Include Shrimp and Abalone

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 9, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to: Celeste Leroux at (301) 427-8372 or Celeste.Leroux@noaa.gov.

SUPPLEMENTARY INFORMATION:

I. Abstract

The Seafood Traceability Program (see 50 CFR 300.320-300.325) is the first phase of a risk-based traceability program, which establishes permit, reporting and recordkeeping requirements needed to prevent illegally harvested and misrepresented seafood from entering into U.S. Commerce. In the development of the Seafood Traceability Program rule, 13 “priority” species were identified as being most at risk for Illegal, Unreported, and Unregulated (IUU) fishing and misrepresentation, and are the only species currently subject to this program. For two of those species (abalone and shrimp), NMFS stayed program requirements indefinitely (50 CFR 300.324(a)(3)). See 81 FR 88975 (December 9, 2016). A final rule was published on April 24, 2018 (83 FR 17762) which lifted the stay and established a compliance date of December 31, 2018 for shrimp and abalone.

NMFS had stayed requirements for abalone and shrimp because gaps existed in the collection of traceability information for domestic aquaculture-raised shrimp and abalone, which is currently largely regulated at the state level. During development of the Seafood Traceability Program, NMFS explored the possibility of working with its state partners to establish reporting and recordkeeping requirements for aquaculture traceability information that could be shared with NMFS. However, this did not prove to be a viable approach. See 81 FR at 88977-78. In the Seafood Import Monitoring Program final rule, NMFS explained that “[A]t such time that the domestic reporting and recordkeeping gaps have been closed, NMFS will then publish an action in the Federal Register to lift the stay of the effective date for § 300.324(a)(3) of the rule pertaining to shrimp and abalone. Adequate advance notice to the trade community would be provided” to ensure all affected parties have sufficient time to come into compliance.

On March 23, 2018, the Consolidated Appropriations Act of 2018 (Pub. L. 115-141) was signed by the President and became law. Section 539 of Division B of the Act directed the Secretary of Commerce to, within 30 days, “lift the stay on the effective date of the final rule for the Seafood Traceability Program published by the Secretary on December 9, 2016, (81 FR 88975 et seq.) for the species described in § 300.324(a)(3) of title 50, Code of Federal Regulations: Provided that the compliance date for the species described in § 300.324(a)(3) of title 50, Code of Federal Regulations, shall occur not later than December 31, 2018.” A final rule was issued to implement the Act (83 FR 17762, April 24, 2018) and provides that shrimp and abalone will be subject to the requirements of the Seafood Traceability Program under 50 CFR 300.324(a)(3), with a compliance date December 31, 2018.

The Program consists of two components: (1) Reporting of harvest events at the time of entry; and (2) permitting and recordkeeping requirements with respect to both harvest events and chain of custody information. See 50 CFR 300.324 and id. §§ 300.320-300.323 and 300.325. Application of the program's reporting and recordkeeping requirements to shrimp and abalone will enable audits of imports to be conducted to determine the origin of the products and confirm that they were lawfully acquired.

The final rule to lift the stay on shrimp and abalone contains a collection-of-information requirement subject to review and approval by OMB under the Paperwork Reduction Act (PRA).

OMB had previously approved the information collection requirements for the Seafood Traceability Program under Control Number 0648-0739, but the burden estimates did not include the requirements for shrimp and abalone given the stay. The requirements for permitting, reporting and recordkeeping for imports of shrimp and abalone will be submitted to OMB for approval.

II. Method of Collection

As of the December 31, 2018 compliance date established by the final rule to lift the stay, importers of shrimp and abalone species will be required to obtain an International Fisheries Trade Permit as specified at 50 CFR 300.322, submit harvest and landing information on those products into the U.S. Customs and Border Protection International Trade Data System (ITDS) through the Automated Commercial Environment (ACE) portal prior to entry into U.S. Commerce, and maintain supply chain records from the point of harvest to the point of entry into U.S Commerce for a period of two years after entry.

III. Data

OMB Control Number: 0648-xxxx.

Form Number(s): None.

Type of Review: Regular submission (request for a new information collection).

Affected Public: Business or other for-profit organizations.

Estimated Number of Respondents: 2,000.

Estimated Time per Response: International Fisheries Trade Permit, 5 minutes; data entry, 1 hour.

Estimated Total Annual Burden Hours: 215,167.

Estimated Total Annual Cost to Public: $805,000 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 3, 2018.
Sarah Brabson,
NOAA PRA Clearance Officer.

[FR Doc. 2018-16987 Filed 8-7-18; 8:45 am]

BILLING CODE 3510-22-P